DEPARTMENT OF JUSTICE

Antitrust Division

Notice Pursuant to the National Cooperative Research and Production Act of 1993—Efficacy Task Force, LLC

Notice is hereby given that, on November 14, 2018, pursuant to Section 6(a) of the National Cooperative Research and Production Act of 1993, 15 U.S.C. 4301 et seq. (“the Act”), Efficacy Task Force, LLC has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: BASF Corporation, Florham Park, NJ; Bayer Animal Health, Shawnee, KS; Central Garden & Pet Company, Schaumburg, IL; Control Solutions, Inc., Pasadena, TX; FMC Corporation, Philadelphia, PA; McLaughlin Gormley King Company (MGK), Minneapolis, MN; SC Johnson & Son, Inc., Racine, WI; Sergeant's Pet Care Products, Inc., Omaha, NE; United Industries Corporation, Earth City, MO; and W.F. Young, Inc., East Longmeadow, MA. The general area of Efficacy Task Force, LLC's planned activity is to reach agreement with the U.S. Environmental Protection Agency (“EPA”) on data required for the reregistration of Cyfluthrin; MGK264; Permethrin; Phenothrin; Piperonyl Butoxide (PBO); Pyrethrins (PY); PY/PBO/MGK264/(S)-Methoprene/Tetramethrin Blend; PY/PBO/MGK264/(S)-Methoprene Blend; PY/PBO/MGK264/Tetramethrin Blend; PY/PBO Blends; Pyripoxyfen; and Tetramethrin (the “Products”); to develop and own written procedural methods for the development of such data; to engage in advocacy before EPA, State and local governments, as appropriate, in support of the registration, sale, distribution, and use of the Products; and to protect the proprietary interest in the procedural methods and existing data including, but not limited to, seeking and collecting data compensation from non-members of the Efficacy Task Force, LLC who may seek to rely upon the data and procedural methods to support their registrations, to the extent permitted by FIFRA or the data compensation laws of non-U.S. jurisdictions.

Suzanne Morris,
Chief, Premerger and Division Statistics Unit, Antitrust Division.

[FR Doc. 2018-27459 Filed 12-18-18; 8:45 am]

BILLING CODE 4410-11-P